DEPARTMENT OF THE TREASURY

Internal Revenue Service

26 CFR Part 1

[TD 9287]

RIN-1545-BD00

Attained Age of the Insured Under Section 7702; Correction

AGENCY: Internal Revenue Service (IRS), Treasury.

ACTION: Correction to final regulations.

SUMMARY: This document corrects the final regulation (TD 9287) that was published in the Federal Register on Wednesday, September 13, 2006 (71 FR 53967), explaining how to determine the attained age of an insured for purposes of testing whether a contract qualifies as a life insurance contract for Federal income tax purposes.

DATES: Effective Date: This correction is effective September 13, 2006.

FOR FURTHER INFORMATION CONTACT: Ann H. Logan, (202) 622-3970 (not a toll-free number).

SUPPLEMENTARY INFORMATION:

Background

The final regulation (TD 9287) that is the subject of this correction is under section 7702 of the Internal Revenue Code.

Need for Correction

As published, TD 9287 contains an error that may prove to be misleading and is in need of clarification.

Correction of Publication

Accordingly, the publication of the final regulation (TD 9287) that was the subject of FR. Doc. E6-15117, is corrected as follows:

On page 53967, column 3, in the heading, the RIN number “RIN 1545-BE53” is corrected to read “RIN 1545-BD00”.

Guy R. Traynor,
Federal Register Liaison, Legal Processing Division, Associate Chief Counsel (Procedure and Administration).

[FR Doc. E6-17572 Filed 10-19-06; 8:45 am]

BILLING CODE 4830-01-P